ENVIRONMENTAL PROTECTION AGENCY

[ER-FRL-9019-6]

Environmental Impact Statements; Notice of Availability

Responsible Agency: Office of Federal Activities, General Information (202) 564-7146 or http://www.epa.gov/compliance/nepa/.

Weekly receipt of Environmental Impact Statements Filed 02/09/2015 Through 02/13/2015 Pursuant to 40 CFR 1506.9.

Notice

Section 309(a) of the Clean Air Act requires that EPA make public its comments on EISs issued by other Federal agencies. EPA's comment letters on EISs are available at: http://www.epa.gov/compliance/nepa/eisdata.html.

EIS No. 20150035, Final EIS, FHWA, TX, US 69/Loop 49 North Lindale Reliever Route, from IH 20 Southwest of Lindale to US 69 North of Lindale, Review Period Ends: 03/23/2015, Contact: Vernon Webb 903-510-9296.

EIS No. 20150036, Second Final Supplement, BOEM, AK, Chukchi Sea Planning Area, Oil and Gas Lease, Sale 193, Review Period Ends: 03/23/2015, Contact: Tim Holder 703-787-1744.

EIS No. 20150037, Draft EIS, USFS, OR, Granite Creek Watershed Mining Project, Comment Period Ends: 04/06/2015, Contact: Sophia Millar 541-263-1735.

EIS No. 20150038, Final EIS, USFS, ID, Crooked River Valley Rehabilitation Project, Review Period Ends: 04/13/2015, Contact: Jennie Fischer 208-983-4048.

EIS No. 20150039, Draft EIS, USACE, TX, Lower Bois D'Arc Creek Reservoir, Comment Period Ends: 04/21/2015, Contact: Andrew Commer 918-669-7400.

EIS No. 20150040, Final EIS, USFWS, ID, Deer Flat National Wildlife Refuge Comprehensive Conservation Plan, Review Period Ends: 03/23/2015, Contact: Annette de Knijf 208-467-9278.

Amended Notices

EIS No. 20150028, Final EIS, USFS, ID, Clear Creek Integrated Restoration Project, Review Period Ends: 03/16/2015, Contact: Lois Hill 208-935-4258. Revision to FR Notice Published 02/13/2015; Correction to Agency Contact Phone Number should be 208-935-4258.

EIS No. 20150034, Final EIS, USACE, OR, Double-crested Cormorant Management Plan to Reduce Predation of Juvenile Salmonids in the Columbia River Estuary, Review Period Ends: 03/16/2015, Contact: Robert Winters 503-808-4738. Revision to FR Notice Published 02/13/2015; Correction to Document Status should be Final EIS.

Dated: February 17, 2015.
Dawn Roberts,
Management Analyst, NEPA Compliance Division, Office of Federal Activities.

[FR Doc. 2015-03524 Filed 2-19-15; 8:45 am]

BILLING CODE 6560-50-P